DEPARTMENT OF ENERGY

10 CFR Part 431

[Docket No. EERE-2008-BT-TP-0017]

RIN 1904-AB87

Energy Conservation Program for Certain Commercial and Industrial Equipment: Test Procedures for Metal Halide Lamp Ballasts

AGENCY: Office of Energy Efficiency and Renewable Energy, Department of Energy.

ACTION: Notice of public meeting.

SUMMARY: The U.S. Department of Energy (DOE) will hold a public meeting to discuss and receive comment concerning its proposal to establish metal halide lamp ballast test procedures that manufacturers would use to demonstrate compliance with the metal halide ballast energy conservation standards mandated by the statute.

DATES: DOE will hold a public meeting in Washington, DC, on Friday, December 19, 2008, beginning at 9 a.m.

ADDRESSES: The public meeting will be held at the U.S. Department of Energy, Forrestal Building, Room 8E-089, 1000 Independence Avenue, SW., Washington, DC 20585. To attend the public meeting, please notify Ms. Brenda Edwards at (202) 586-2945. (Please note that foreign nationals visiting DOE headquarters are subject to advance security screening procedures. Any foreign national wishing to participate in the meeting should advise DOE immediately by contacting Ms. Edwards to initiate the necessary procedures.)

• Postal Mail: Ms. Brenda Edwards, U.S. Department of Energy, Building Technologies Program, Mailstop EE-2J, 1000 Independence Avenue, SW., Washington, DC 20585-0121. Please submit one signed paper original.

• Hand Delivery/Courier: Ms. Brenda Edwards, U.S. Department of Energy, Building Technologies Program, 6th Floor, 950 L'Enfant Plaza, SW., Washington, DC 20024. Telephone: (202) 586-2945. Please submit one signed paper original.

Docket: For access to the docket to read background documents or comments received, visit the U.S. Department of Energy, Resource Room of the Building Technologies Program, 6th Floor, 950 L'Enfant Plaza, SW., Washington, DC 20024, (202) 586-2945, between 9 a.m. and 4 p.m., Monday through Friday, except Federal holidays. Please contact Ms. Brenda Edwards at the above phone number for additional information regarding visiting the Resource Room.

FOR FURTHER INFORMATION CONTACT: Ms. Linda Graves, U.S. Department of Energy, Office of Energy Efficiency and Renewable Energy, Building Technologies Program, Mailstop EE-2J, 1000 Independence Avenue, SW., Washington, DC 20585-0121. Telephone: (202) 586-1851. E-mail: Linda.Graves@ee.doe.gov. Or you may contact Mr. Eric Stas, U.S. Department of Energy, Office of the General Counsel, GC-72, 1000 Independence Avenue, SW., Washington, DC 20585-0121. Telephone: (202) 586-9507. E-mail: Eric.Stas@hq.doe.gov.

For additional information on how to participate in the public meeting, contact Ms. Brenda Edwards, U.S. Department of Energy, Office of Energy Efficiency and Renewable Energy, Building Technologies Program, Mailstop EE-2J, 1000 Independence Avenue, SW., Washington, DC 20585-0121. Telephone: (202) 586-2945. E-mail: Brenda.Edwards@ee.doe.gov.

SUPPLEMENTARY INFORMATION:

I. Background

In accordance with the Energy Policy and Conservation Act, as amended (EPCA), the proposed metal halide test procedures are based on American National Standards Institute (ANSI) Standard C82.6-2005, “Ballasts for High-Intensity Discharge Lamps—Method of Measurement.” Also in accordance with EPCA, DOE proposes a test method for measuring standby mode power consumption and discusses the fact that off mode power consumption does not apply to metal halide lamp ballasts. The proposed test procedures are contained in a Notice of Proposed Rulemaking that was issued by DOE on December 4, 2008, and may be viewed and downloaded from the DOE Web page at: http://www1.eere.energy.gov/buildings/appliance_standards/commercial/metal_halide_lamp_ballasts_tp_nopr.html. The Notice of proposed rulemaking will be published in the Federal Register in the near future, and at that time the 75-day public comment period will begin.

II. Public Participation

A. Attendance at Public Meeting

The time/date and location of the public meeting are listed in the DATES and ADDRESSES sections, respectively at the beginning of this notice. To attend the public meeting, please notify Ms. Brenda Edwards at (202) 586-2945. As explained in the ADDRESSES section, foreign nationals visiting DOE Headquarters are subject to advance security screening procedures.

B. Procedure for Submitting Requests to Speak

Any person who has an interest in the topics addressed in this notice or who represents a group or class of persons with an interest in these issues may request an opportunity to make an oral presentation at the public meeting. Such persons may hand-deliver requests to speak to the address shown in the ADDRESSES section at the beginning of this notice between 9 a.m. and 4 p.m., Monday through Friday, except Federal holidays. Send requests by mail or e-mail to Ms. Brenda Edwards, U.S. Department of Energy, Building Technologies Program, Mailstop EE-2J, 1000 Independence Avenue, SW., Washington, DC 20585-0121, or Brenda.Edwards@ee.doe.gov. Persons who wish to speak should include a computer diskette or CD in WordPerfect, Microsoft Word, PDF, or text (ASCII) file format that briefly describes the nature of their interest in this rulemaking and the topics that they wish to discuss, and provide a telephone number for contact. DOE requests that those persons scheduled to speak submit an advance copy of their statements before the public meeting. DOE may permit any person who cannot supply an advance copy to participate if that person has made alternative arrangements with the Building Technologies Program in advance. The request to make an oral presentation should ask for such alternative arrangements.

C. Conduct of Public Meeting

DOE will designate a DOE official to preside at the public meeting and also may use a professional facilitator to aid discussion. The meeting will be conducted in an informal, conference style. The meeting will not be a judicial or evidentiary-type public hearing, but DOE will conduct it in accordance with 5 U.S.C. 553 and section 336 of EPCA (42 U.S.C. 6306). DOE reserves the right to schedule the order of presentations and to establish the procedures governing the conduct of the public meeting. A court reporter will record the proceedings and prepare a transcript.

At the public meeting, DOE will present summaries of comments received before the public meeting, allow time for presentations by participants, and encourage all interested parties to share their views on issues affecting the proposed test procedures. Each participant may present a prepared general statement (within time limits determined by DOE) before the discussion of specific topics. Other participants may comment briefly on any general statements. At the end of all prepared statements, participants may clarify their statements briefly and comment on statements made by others. Participants should be prepared to answer questions from DOE and other participants. Department representatives may also ask questions about other matters relevant to the proposed test procedures. The official conducting the public meeting will accept additional comment or questions from those attending, as time permits. The presiding official will announce any further procedural rules or modification of procedures needed for the proper conduct of the public meeting.

DOE will make the transcript from the public meeting available for inspection at the U.S. Department of Energy, Resource Room of the Building Technologies Program, 6th Floor, 950 L'Enfant Plaza, SW., Washington, DC 20024, (202) 586-2945, between 9 a.m. and 4 p.m., Monday through Friday, except Federal holidays. The official transcript will also be posted on the DOE Web site at: http://www.eere.energy.gov/buildings/appliance_standards. Anyone may purchase a copy of the transcript from the transcribing reporter.

Issued in Washington, DC, on December 11, 2008.
John F. Mizroch,
Acting Assistant Secretary, Energy Efficiency and Renewable Energy.

[FR Doc. E8-29944 Filed 12-16-08; 8:45 am]

BILLING CODE 6450-01-P